DEPARTMENT OF TRANSPORTATION

Coast Guard

33 CFR Part 117

[CGD01-01-037]

Drawbridge Operation Regulations: Taunton River, MA

AGENCY: Coast Guard, DOT.

ACTION: Notice of temporary deviation from regulations.

SUMMARY: The Commander, First Coast Guard District, has issued a temporary deviation from the drawbridge operation regulations governing the operation of the Brightman Street Bridge, at mile 1.8, across the Taunton River between Somerset and Fall River, Massachusetts. This deviation allows the bridge owner to keep the bridge in the closed position from 9 p.m. on May 4, 2001 through 4 p.m. on May 11, 2001. This action is necessary to facilitate necessary maintenance at the bridge.

DATES: This deviation is effective from May 4, 2001 through May 11, 2001.

FOR FURTHER INFORMATION CONTACT: John W. McDonald, Project Officer, First Coast Guard District, at (617) 223-8364.

SUPPLEMENTARY INFORMATION: The Brightman Street Bridge, at mile 1.8, across the Taunton River, has a vertical clearance of 27 feet at mean high water, and 31 feet at mean low water in the closed position. The existing drawbridge operating regulations are listed at 33 CFR 117.619.

The bridge owner, the Massachusetts Highway Department (MHD), requested a temporary deviation from the drawbridge operating regulations to facilitate necessary structural maintenance and repairs at the bridge.

This deviation from the operating regulations allows the bridge owner to keep the bridge in the closed position from 9 p.m. on May 4, 2001 through 4 p.m. on May 11, 2001. The upstream waterway facilities were contacted by the Coast Guard regarding this closure and no objections were received. Vessels that can pass under the bridge without an opening may do so at all times during the closed period.

In accordance with 33 CFR 117.35(c), this work will be performed with all due speed in order to return the bridge to normal operation as soon as possible. This deviation from the operating regulations is authorized under 33 CFR 117.35.

Dated: April 2, 2001.
Gerald M. Davis,
Captain, U.S. Coast Guard, Acting Commander, First Coast Guard District.

[FR Doc. 01-8763 Filed 4-9-01; 8:45 am]

BILLING CODE 4910-15-U